DEPARTMENT OF HEALTH AND HUMAN SERVICES

Health Resources and Services Administration

Meeting of the Council on Graduate Medical Education

AGENCY: Health Resources and Services Administration (HRSA), Department of Health and Human Services (HHS).

ACTION: Notice; correction.

SUMMARY: The Council on Graduate Medical Education (COGME) meeting scheduled on Tuesday, December 8, 2020, and Wednesday, December 9, 2020, has changed its format and time. The meeting will now be a 2-day webinar and conference call only on Tuesday, December 8, 2020, from 10:00 a.m.-5:00 p.m. Eastern Time (ET) and Wednesday, December 9, 2020, from 10:00 a.m.-2:00 p.m. ET. The webinar link, conference dial in number, meeting materials, and updates will be available on the COGME website: https://www.hrsa.gov/advisory-committees/graduate-medical-edu/meetings/index.html.

FOR FURTHER INFORMATION CONTACT: Shane Rogers, Designated Federal Official, Division of Medicine and Dentistry, Bureau of Health Workforce, HRSA, 5600 Fishers Lane, 15N142, Rockville, Maryland 20857; 301-443-5260; or BHWCOGME@hrsa.gov.

Correction: Meeting will be a 2-day webinar and conference call only rather than in-person as previously announced.

Maria G. Button,
Director, Executive Secretariat.

[FR Doc. 2020-20940 Filed 9-22-20; 8:45 am]

BILLING CODE 4165-15-P